ENVIRONMENTAL PROTECTION AGENCY

[EPA-HQ-OPPT-2017-0409; FRL-9970-33]

Certain New Chemicals; Receipt and Status Information for September 2017

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from September 1, 2017 to September 29, 2017.

DATES: Comments identified by the specific case number provided in this document, must be received on or before January 3, 2018.

ADDRESSES: Submit your comments, identified by docket identification (ID) number EPA-HQ-OPPT-2017-0409, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Jim Rahai, Information Management Division (7407M), Office of Pollution Prevention and Toxics, Environmental Protection Agency, 1200 Pennsylvania Ave. NW., Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR parts 2.

2. Tips for preparing your comments. When preparing and submitting your comments, see the commenting tips at http://www.epa.gov/dockets/comments.html.

II. What action is the Agency taking?

This document provides receipt and status reports, which cover the period from September 1, 2017 to September 29, 2017, and consists of the PMNs and TMEs both pending and/or expired, and the NOCs to manufacture a new chemical that the Agency has received under TSCA section 5 during this time period.

III. What is the Agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory, please go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 165 PMNs received by EPA during this period, Table 1 provides the following information (to the extent that such information is not claimed as CBI): The EPA case number assigned to the PMN; The date the PMN was received by EPA; the projected end date for EPA's review of the PMN; the submitting manufacturer/importer; the potential uses identified by the manufacturer/importer in the PMN; and the chemical identity.

Table 1—PMNs Received From September 1, 2017 To September 29, 2017
Case No. | Received date | Projected notice end date | Manufacturer /importer | Use | Chemical
P-17-0015 | 09/08/2017 | 12/07/2017 | Daicel Chemtech, Inc | (G) Precursor for photochromic substance | (G) Heteromonocycle ester with alkanediol.
P-17-0016 | 09/18/2017 | 12/17/2017 | CBI | (G) Polymer for coatings | (G) Hydroxyl alkyl acrylate ester, polymer with acrylates, aromatic vinyl monomer, cycloaliphatic lactone, and alkyl carboxylic acid, peroxide initiated.
P-17-0017 | 09/18/2017 | 12/17/2017 | CBI | (G) Polymer for coatings | (G) Hydroxyl alkyl acrylate ester, polymer with acrylates, aromatic vinyl monomer, cycloaliphatic lactone, and alkyl carboxylic acid, peroxide initiated.
P-17-0018 | 09/18/2017 | 12/17/2017 | CBI | (G) Polymer for coatings | (G) Hydroxyl alkyl acrylate ester, polymer with acrylates, aromatic vinyl monomer, cycloaliphatic lactone, and alkyl carboxylic acid, azobis[aliphatic nitrile] initiated.
P-17-0019 | 09/18/2017 | 12/17/2017 | CBI | (G) Polymer for coatings | (G) Hydroxyl alkyl acrylate ester, polymer with acrylates, aromatic vinyl monomer, cycloaliphatic lactone, and alkyl carboxylic acid, peroxide initiated.
P-17-0020 | 09/18/2017 | 12/17/2017 | CBI | (G) Polymer for coatings | (G) Hydroxyl alkyl acrylate ester, polymer with acrylates, aromatic vinyl monomer, cycloaliphatic lactone, and alkyl carboxylic acid, peroxide initiated.
P-17-0021 | 09/18/2017 | 12/17/2017 | CBI | (G) Polymer for coatings | (G) Hydroxyl alkyl acrylate ester, polymer with acrylates, aromatic vinyl monomer, cycloaliphatic lactone, and alkyl carboxylic acid, azobis[aliphatic nitrile] initiated.
P-17-0026 | 09/19/2017 | 12/18/2017 | CBI | (G) Industrial ink printing applications | (G) Cycloaliphatic diamine, polymer with .alpha-hydro-.omega.-hydroxypoly(oxy-alkanediyl), .alpha-hydro-.omega.-hydroxypoly(oxy-alkanediyl), and cycloaliphatic diisocyanate.
P-17-0027 | 09/19/2017 | 12/18/2017 | CBI | (G) Industrial Use of Printing Ink | (G) Diol polymer with .alpha.-hydro-.omega.-hydroxypoly[oxy(alkanediyl)] and aromatic diisocyante.
P-17-0086 | 09/15/2017 | 12/14/2017 | CBI | (G) Perfume | (G) Cycloalkyl, bis(ethoxyalkyl)-, trans- cycloalkyl, bis(ethoxyalkyl)-, cis-.
P-17-0109 | 09/21/2017 | 12/20/2017 | CBI | (S) Intermediate for polyurethane catalyst (S) Polyurethane catalyst | (G) Alkyldiamine, aminoalkyl dimethylaminoalkyl dimethyl-.
P-17-0110 | 09/08/2017 | 12/07/2017 | DIC International (USA), LLC | (G) Masking photopolymer | (G) Phenol formaldehyde glycidyl ether acrylate cycloalkene ester.
P-17-0117 | 09/13/2017 | 12/12/2017 | CBI | (G) Use as a polyol for polyurethane manufacture reaction of the new substance with a diisocyanate or polyisocyanate in a blend with other polyols will produce a higher MW polymer | (S) 1,6,10-dodecatriene, 7,11-dimethyl-3-methylene-, (6e)-, homopolymer, 2-hydroxypropyl-terminated.
P-17-0118 | 09/13/2017 | 12/12/2017 | CBI | (G) Use as a polyol for polyurethane manufacture. Reaction of the new substance with a diisocyanate or polyisocyanate in a blend with other polyols will produce a higher MW polymer | (S) 1,6,10-dodecatriene, 7,11-dimethyl-3-methylene-, (6e)-, homopolymer, 2-hydroxyethyl-terminated.
P-17-0118 | 09/13/2017 | 12/12/2017 | CBI | (S) Used as a feedstock for hydrogenation to produce a saturated diol for use in urethane chemistry or as an additive in coatings, adhesives or sealants | (S) 1,6,10-dodecatriene, 7,11-dimethyl-3-methylene-, (6e)-, homopolymer, 2-hydroxyethyl-terminated.
P-17-0152 | 09/12/2017 | 12/11/2017 | CBI | (G) Additive in home care products | (G) Poly-(2-methyl-1-oxo-2-propen-1-yl) ester with ethanaminium, n,n,n-trialkyl, chloride and methoxypoly(oxy-1,2-ethanediyl)
P-17-0160 | 09/13/2017 | 12/12/2017 | CBI | (G) Binder | (G) 2-propenoic acid, alkyl-, alkyl ester, polymer with alkyl 2-propenoate, dialkyloxoalkyl-2-propenamide and alkyl 2-propenoate
P-17-0161 | 09/13/2017 | 12/12/2017 | CBI | (G) Binder | (G) 2-propenoic acid, alkyl-, alkyl ester, polymer with alkyl 2-propenoate, dialkyloxoalkyl-2-propenamide, ethenylbenzene and alkyl 2-propenoate.
P-17-0186 | 09/28/2017 | 12/27/2017 | CBI | (G) Additive, open, non-dispersive use | (G) 2,5-furandione, telomer with 1,1′-(1,1-dimethyl-3-methylene-1,3-propanediyl)bis[benzene] and ethenylbenzene, carbonmonocycle alkyl ester, esters with polyalkylene glycol mono alkyl ethers, ammonium salts, 2,2′-(1,2-diazenediyl)bis[2-methylbutanenitrile]-initiated.
P-17-0191 | 09/21/2017 | 12/20/2017 | CBI | (S) Polyurethane catalyst | (G) Alkyldiamine, aminoalkyl dimethylaminoalkyl dimethyl-, reaction products with propylene oxide.
P-17-0195 | 09/06/2017 | 12/05/2017 | CBI | (G) For manufacturing modified Ethylene vinyl alcohol copolymer | (G) 1,3-propanediol,2-methylene-, substituted.
P-17-0203 | 09/27/2017 | 12/26/2017 | CBI | (G) Crosslinking binder component | (G) Aromatic bis[(ether)(alkyl)phenol]
P-17-0207 | 09/18/2017 | 12/17/2017 | CBI | (G) Paint | (G) 2-alkenoic acid, 2 alkyl, 2 alkyl ester, polymer with alkyl alkenoate, carbomonocyle, alkyl alkenoate and alkyl alkenoate, alkyl peroxide initiated.
P-17-0232 | 09/27/2017 | 12/26/2017 | CBI | (G) Engineering thermoplastic | (G) Copolyamide of an aromatic dicarboxylic acid and a mixture of diamines.
P-17-0237 | 09/13/2017 | 12/12/2017 | CBI | (G) Export overseas for use in polyurethanes | (S) 1,6,10-dodecatriene, 7,11-dimethyl-3-methylene-, (6e)-, homopolymer, hydrogenated, 2-hydroxyethyl-terminated.
P-17-0237 | 09/13/2017 | 12/12/2017 | CBI | (G) For use as a plasticizer in UV Cure formulations | (S) 1,6,10-dodecatriene, 7,11-dimethyl-3-methylene-, (6e)-, homopolymer, hydrogenated, 2-hydroxyethyl-terminated.
P-17-0237 | 09/13/2017 | 12/12/2017 | CBI | (G) Use in UV cured systems | (S) 1,6,10-dodecatriene, 7,11-dimethyl-3-methylene-, (6e)-, homopolymer, hydrogenated, 2-hydroxyethyl-terminated.
P-17-0237 | 09/13/2017 | 12/12/2017 | CBI | (S) LOCA (see description for the Primary diol) due to its lower reactivity, very little of the hydrogenated secondary diol will be made or sold for this use the uses would be identical to the use of the hydrogenated primary diol | (S) 1,6,10-dodecatriene, 7,11-dimethyl-3-methylene-, (6e)-, homopolymer, hydrogenated, 2-hydroxyethyl-terminated.
P-17-0238 | 09/13/2017 | 12/12/2017 | CBI | (G) Export overseas for use in polyurethanes (G) For use as a plasticizer in UV Cure formulations (G) Use in UV cured systems | (S) 1,6,10-dodecatriene, 7,11-dimethyl-3-methylene-, (6e)-, homopolymer, 2-hydroxypropyl-terminated, hydrogenated.
P-17-0238 | 09/13/2017 | 12/12/2017 | CBI | (S) LOCA (see description for the Primary diol). Due to its lower reactivity, very little of the hydrogenated secondary diol will be made or sold for this use. The uses would be identical to the use of the hydrogenated primary diol | (S) 1,6,10-dodecatriene, 7,11-dimethyl-3-methylene-, (6e)-, homopolymer, 2-hydroxypropyl-terminated, hydrogenated.
P-17-0246 | 09/19/2017 | 12/18/2017 | CBI | (G) Industrial intermediate | (G) Polycarbonate polyol.
P-17-0249 | 09/08/2017 | 12/07/2017 | CBI | (G) Open, dispersive use | (G) Acid-neutralized, amine-functional acrylic polymer.
P-17-0260 | 09/05/2017 | 12/04/2017 | Shin Etsu Silicones of America | (G) Resin modifier | (G) Alkoxy silane modified butadiene-styrene copolymer.
P-17-0263 | 09/07/2017 | 12/06/2017 | CBI | (G) Most paint formulators will add less than 5% of Borchi Gel NA that contains 50% of the PMN substance to make their formulated product volume (i.e. 10 gallon batch would contain 0.5 gallon of our product (0.25gal of PMN substance) our product will be metered in by hand (via smaller containers) or by pumping into an open and/or closed vessel at desired levels and then mixed mechanically | (G) Zirconium carboxylates sodium complexes.
|  |  |  | Manufactures/formulators typically use modern manufacturing techniques including PPR, engineering controls, and best management practices to mitigate risk
P-17-0268 | 09/08/2017 | 12/07/2017 | ADC—Adrian | (S) Resin for powder coating (S) Resin for powder coating applications. | (G) Methyl methacrylate, glycidyl methacrylate co-polymer with styrene and ester acrylate
P-17-0269 | 09/08/2017 | 12/07/2017 | ADC—Adrian | (S) Resin for powder coating applications | (G) Methyl methacrylate, glycidyl methacrylate co-polymer with butyl acrylate, styrene and ester acrylate, peroxide initiated.
P-17-0282 | 09/12/2017 | 12/11/2017 | Elantas PDG, Inc | (S) This is a component of a mixture that is used as an impregnating varnish for stators and motors | (S) Isocyanic acid, polymethylenepolyphenylene ester, caprolactam- and phenol-blocked.
P-17-0284 | 09/18/2017 | 12/17/2017 | CBI | (G) In-process intermediate | (S) 2-heptanone, 4-hydroxy-
P-17-0285 | 09/18/2017 | 12/17/2017 | CBI | (G) In-process intermediate | (S) 4-hepten-2-one.
P-17-0301 | 09/05/2017 | 12/04/2017 | CBI | (G) Used as a surface drier in clear and pigmented coatings systems to replace other primary driers, particularly cobalt | (G) Manganese heterocyclic-amine carboxylate complexes.
P-17-0322 | 09/19/2017 | 12/18/2017 | CBI | (G) Auxiliary drier, has little drying action in itself but is very useful in combination with active driers. In vehicles that show poor tolerance for lead, calcium can replace part of the lead with a larger amount of calcium to prevent the precipitation of the lead & maintain drying efficiency | (G) Zinc naphthenate complexes.
|  |  |  | Calcium is also useful as pigment wetting & dispersing agents & help to improve hardness & gloss & reduce “Silkins” when ground with drier adsorbing pigments, Calcium minimizes loss of dry by being preferentially absorbed
P-17-0325 | 09/26/2017 | 12/25/2017 | Cekal Specialties, Inc | (S) Used in textile industry in bleaching and dyeing operations as a dispersing agent, for professional use according to the instructions in the technical bulletin | (S) 2-propenoic acid, polymer with 2-methyl-2-((1-oxo-2-propenyl)amino)-1-propanesulfonic acid.
P-17-0330 | 09/05/2017 | 12/04/2017 | CBI | (S) Polyurethane which is cured and used in a sprocket for water treatment | (G) Hexanedioic acid, polymer with trifuntional polyol, 1,1′-methylenebis [isocyanatobenzene], and 2,2′-oxybis [ethanol].
P-17-0353 | 09/27/2017 | 12/26/2017 | CBI | (G) Additive in resin manufacture | (G) Heteromonocycle, 2-[(bicarbomonocycle-2-substituted) alkyl]-.
P-17-0355 | 09/08/2017 | 12/07/2017 | CBI | (G) Site intermediate | (G) Benzoic acid, 2-hydroxy-, -alkyl derivs.
P-17-0359 | 09/08/2017 | 12/07/2017 | CBI | (G) Lubricant additive | (G) Zinc, bis[2-hydroxy-ko)benzoate-ko]- alkyl derivs.
P-17-0385 | 09/19/2017 | 12/18/2017 | Al-Fares Corporation | (S) Cleaning product for detailing vehicles | (S) Carbonic acid, bis(2-ethylhexyl) ester.
P-17-0387 | 09/08/2017 | 12/07/2017 | CBI | (G) Paint | (G) Dicarboxylic acids, polymers with alkanoic acid, alkanediol, susbtituted-alkylalkanoic acid, substituted alkyl carbomonocyle, alkanedioic acid and alkanediol, alkanolamine blocked, compds with alkanolamine.
P-17-0388 | 09/08/2017 | 12/07/2017 | CBI | (G) Paint | (G) Dicarboxylic acids, polymers with alkanoic acid, alkanediol, susbtituted-alkylalkanoic acid, substituted alkyl carbomonocyle, alkanedioic acid and alkanediol, alkanolamine blocked, compds with alkanolamine.
P-17-0389 | 09/11/2017 | 12/10/2017 | CBI | (G) Polymer precursor | (G) Alkyl oil, polymer with 1,4-cyclohexanedimethanol, dehydrated alkyl oil, hydrogentated rosin, phthalic anhydride and trimethylolpropane.
P-17-0390 | 09/06/2017 | 12/05/2017 | KAO Specialties Americas, LLC | (G) Printing additive | (G) Carbomonocyclic dicarboxylic acid, polymer with alkenedioic acid, substituted heteropolycycle, substituted heteromonocycle, alkanediol, alkanedioic acid, alkoxylated substituted dicarbomonocycle, alkoxylated substituted dicarbomonocycle and alkanetriol, carbomonocyclic carboxylate alkanoate.
P-17-0391 | 09/08/2017 | 12/07/2017 | Allnex USA, Inc | (G) UV Curable coating resin | (G) Heteropolycyclic diacrylate, polymer with alkyl substituted alkyldiamine and [oxybis(alkyl-alkanediyl)] dialkenoate.
P-17-0392 | 09/08/2017 | 12/07/2017 | Allnex USA, Inc | (G) UV curable coating resin | (G) Alkenoic acid, [oxybis(alkyl-alkanediyl)] ester, polymer with dialkyl-alkanediamine.
P-17-0393 | 09/18/2017 | 12/17/2017 | Allnex USA, Inc | (G) UV curable coating resin | (G) Alkanediamine, dialkyl-, polymer with a-hydro-w-[(1-oxo-2-propen-1-yl)oxy]poly(oxy-1,2-ethanediyl) ether with substituted alkyl-substituted-alkanediol, reaction products with alkyl-alkanamine.
P-17-0394 | 09/11/2017 | 12/10/2017 | Allnex USA, Inc | (S) Coating to improve chemical resistance | (G) Substituted propanoic acid, polymer with alkylisocyanate-substituted carbomonocycle, dialkyl carbonate, hydroxyl alkyl substituted alkanediol, alkanediol, isocyanato substituted carbomonocycle, alkanol substituted amines-blocked, compds. with (alkylamino)alkanol.
P-17-0395 | 09/26/2017 | 12/25/2017 | CBI | (G) Water treatment additive | (G) Alkyl tri dithiocarbmate tri salt.
P-17-0396 | 09/20/2017 | 12/19/2017 | CBI | (S) Intermediate for a polyurethane catalyst | (G) Aminoalkylated imidazole.
P-17-0397 | 09/14/2017 | 12/13/2017 | CBI | (S) Intermediate for use in the manufacture of polymers | (G) Waste plastics, poly(ethylene terephthalate), depolymd. with diethylene glycol and polyol, polymers with alkanedioic acid and arylcarboxylic acid anhydride.
P-17-0398 | 09/20/2017 | 12/19/2017 | CBI | (G) Wax-component of complex formulations for various uses (G) Stock use | (G) Branched cyclic and linear hydrocarbons from plastic depolymerization.
P-17-0399 | 09/20/2017 | 12/19/2017 | CBI | (G) Wax-component of complex formulations for various uses (G) Stock use | (G) Alkane, alkene, styrenic compounds derived from plastic depolymerization.
P-17-0401 | 09/21/2017 | 12/20/2017 | CBI | (S) Flow-back additive (S) Foaming agent for well deliquification (S) Surfactant for enhanced oil recovery | (S) Glycolipids, sophorose-contg., candida bombicola-fermented, from C16-18 and C18-unsatd. glycerides and d-glucose, hydrolyzed, sodium salts.
P-17-0402 | 09/21/2017 | 12/20/2017 | CBI | (S) Flow-back additive (S) Foaming agent for well deliquification (S) Surfactant for enhanced oil reco | (S) Glycolipids, sophorose-contg., candida bombicola-fermented, from C16-18 and C18-unsatd. glycerides and d-glucose, hydrolyzed, potassium salts.
P-17-0403 | 09/22/2017 | 12/21/2017 | CBI | (S) Used as a coalescent for latex paints | (G) Tributyl esters of polycarboxylic alkanes.
P-17-0404 | 09/25/2017 | 12/24/2017 | Arlanxeo | (G) intermediate completely used on site | (G) Nitrile-butadiene-acrylate-terpolymers.
P-17-0407 | 09/26/2017 | 12/25/2017 | CBI | (G) Well performance | (G) Halogenated benzoic acid ethyl ester.
P-17-0408 | 09/25/2017 | 12/24/2017 | CBI | (G) Well performance | (G) Halogenated benzoic acid ethyl ester.
P-17-0409 | 09/26/2017 | 12/25/2017 | CBI | (G) Monitor well performance | (G) Halogenated benzoic acid ethyl ester.
P-17-0410 | 09/26/2017 | 12/25/2017 | CBI | (G) Monitor well performance | (G) Halogenated benzoic acid ethyl ester.
P-17-0411 | 09/26/2017 | 12/25/2017 | CBI | (G) Monitor well performance | (G) Halogenated benzoic acid ethyl ester.
P-17-0412 | 09/26/2017 | 12/25/2017 | CBI | (G) Monitor well performance | (G) Halogenated benzoic acid ethyl ester.
P-17-0413 | 09/26/2017 | 12/25/2017 | CBI | (G) Engineering thermoplastic | (G) Aromatic dicarboxylic acid, polymer with mixture of alkyl diamines.
P-17-0414 | 09/28/2017 | 12/27/2017 | CBI | (G) Monitor well performance | (G) Halogenated benzoic acid.
P-17-0415 | 09/28/2017 | 12/27/2017 | CBI | (G) Monitor well performance | (G) Halogenated benzoic acid.
P-17-0416 | 09/28/2017 | 12/27/2017 | CBI | (G) Monitor well performance | (G) Halogenated benzoic acid.
P-17-0417 | 09/28/2017 | 12/27/2017 | CBI | (G) Monitor well performance | (G) Halogenated benzoic acid.
P-17-0418 | 09/26/2017 | 12/25/2017 | CBI | (G) Monitor well performance | (G) Halogenated benzoic acid.
P-17-0419 | 09/26/2017 | 12/25/2017 | CBI | (S) Liquid thermoset resin formulation (S) Solid thermoset polymer | (G) Unsaturated polycyclic hydrocarbon.
P-17-0420 | 09/26/2017 | 12/25/2017 | CBI | (G) Monitor well performance | (G) Halogenated benzoic acid.
P-17-0421 | 09/26/2017 | 12/25/2017 | CBI | (G) Monitor well performance | (G) Halogenated benzoic acid.
P-17-0422 | 09/28/2017 | 12/27/2017 | CBI | (G) Monitor well performance | (G) Halogenated benzoic acid.
P-17-0423 | 09/27/2017 | 12/26/2017 | CBI | (G) Monitor well performance | (G) Halogenated benzoic acid ethyl ester.
P-17-0424 | 09/27/2017 | 12/26/2017 | Johnson Matthey, Inc | (S) Tracer chemical in a solid proppant bead form used to measure flow in deep oil or gas bearing strata | (S) Benzoic acid, 2-chloro-3-methyl-, sodium salt (1:1).
|  |  |  | (S) Tracer chemical used as a tracer in water solution to measure flow in deep oil or gas bearing strata
|  |  |  | (S) Tracer chemical when in a solid blend with polymer to measure flow in deep oil or gas bearing strata
P-17-0425 | 09/27/2017 | 12/26/2017 | Johnson Matthey, Inc | (S) Tracer chemical in a solid proppant bead form used to measure flow in deep oil or gas bearing strata | (S) Benzoic acid, 3-chloro-2-methyl-, sodium salt (1:1).
|  |  |  | (S) Tracer chemical used as a tracer in water solution to (S) Tracer chemical when in a solid blend with polymer to measure flow in deep oil or gas bearing strata measure flow in deep oil or gas bearing strata
P-17-0426 | 09/27/2017 | 12/26/2017 | Johnson Matthey, Inc | (S) Tracer chemical in a solid proppant bead form used to measure flow in deep oil or gas bearing strata | (S) Benzoic acid, 3-chloro-4-methyl-, sodium salt (1:1).
|  |  |  | (S) Tracer chemical used as a tracer in water solution to measure flow in deep oil or gas bearing strata
|  |  |  | (S) Tracer chemical when in a solid blend with polymer to measure flow in deep oil or gas bearing strata
P-17-0427 | 09/27/2017 | 12/26/2017 | Johnson Matthey, Inc | (S) Tracer chemical in a solid proppant bead form used to measure flow in deep oil or gas bearing strata | (S) Benzoic acid, 2-chloro-5-methyl-, sodium salt (1:1).
|  |  |  | (S) Tracer chemical used as a tracer in water solution to measure flow in deep oil or gas bearing strata
|  |  |  | (S) Tracer chemical when in a solid blend with polymer to measure flow in deep oil or gas bearing strata
P-17-0428 | 09/27/2017 | 12/26/2017 | Johnson Matthey, Inc | (S) Tracer chemical in a solid proppant bead form used to measure flow in deep oil or gas bearing strata | (S) Benzoic acid, 4-chloro-2-methyl-, sodium salt (1:1).
|  |  |  | (S) Tracer chemical used as a tracer in water solution to measure flow in deep oil or gas bearing strata
|  |  |  | (S) Tracer chemical when in a solid blend with polymer to measure flow in deep oil or gas bearing strata
P-17-0429 | 09/27/2017 | 12/26/2017 | Johnson Matthey, Inc | (S) Tracer chemical in a solid proppant bead form used to measure flow in deep oil or gas bearing strata | (S) Benzoic acid, 3-fluoro-2-methyl-, sodium salt (1:1).
|  |  |  | (S) Tracer chemical used as a tracer in water solution to measure flow in deep oil or gas bearing strata
|  |  |  | ( S) Tracer chemical when in a solid blend with polymer to measure flow in deep oil or gas bearing strata
P-17-0430 | 09/27/2017 | 12/26/2017 | Johnson Matthey, Inc | (S) Tracer chemical in a solid proppant bead form used to measure flow in gas bearing deep oil or | (S) Benzoic acid, 3-fluoro-4-methyl-, sodium salt (1:1).
|  |  |  | (S) Tracer chemical used as a tracer in water solution to measure flow in deep oil or gas bearing strata
|  |  |  | (S) Tracer chemical when in a solid blend with polymer to measure flow in deep oil or gas bearing strata
P-17-0431 | 09/27/2017 | 12/26/2017 | Johnson Matthey, Inc | (S) Tracer chemical in a solid proppant bead form used to measure flow in deep oil or gas bearing strata | (S) Benzoic acid, 4-fluoro-2-methyl-, sodium salt (1:1).
|  |  |  | (S) Tracer chemical used as a tracer in water solution to measure flow in deep oil or gas bearing strata
|  |  |  | (S) Tracer chemical when in a solid blend with polymer to measure flow in deep oil or gas bearing strata
P-17-0432 | 09/27/2017 | 12/26/2017 | Johnson Matthey, Inc | (S) Tracer chemical in a solid proppant bead form used to measure flow in deep oil or gas bearing strata | (S) Benzoic acid, 2-fluoro-4-methyl-, sodium salt (1:1).
|  |  |  | (S) Tracer chemical used as a tracer in water solution to measure flow in deep oil or gas bearing strata
|  |  |  | (S) Tracer chemical when in a solid blend with polymer to measure flow in deep oil or gas bearing strata
P-17-0433 | 09/27/2017 | 12/26/2017 | Johnson Matthey, Inc | (S) Tracer chemical in a solid proppant bead form used to measure flow in deep oil or gas bearing strata | (S) Benzoic acid, 2-fluoro-3-methyl-, sodium salt (1:1).
|  |  |  | (S) Tracer chemical used as a tracer in water solution to measure flow in deep oil or gas bearing strata
|  |  |  | (S) Tracer chemical when in a solid blend with polymer to measure flow in deep oil or gas bearing strata
P-17-0434 | 09/27/2017 | 12/26/2017 | Johnson Matthey, Inc | (S) Tracer chemical in a solid proppant bead form used to measure flow in deep oil or gas bearing strata | (S) Benzoic acid, 2,3,6-trifluoro-, sodium salt (1:1).
|  |  |  | (S) Tracer chemical used as a tracer in water solution to measure flow in deep oil or gas bearing strata
|  |  |  | (S) Tracer chemical when in a solid blend with polymer to measure flow in deep oil or gas bearing strata
P-17-0435 | 09/27/2017 | 12/26/2017 | Johnson Matthey, Inc | (S) Tracer chemical in a solid proppant bead form used to measure flow in deep oil or gas bearing strata | (S) Benzoic acid, 2-fluoro-3-(trifluoromethyl)-, sodium salt.
|  |  |  | (S) Tracer chemical used as a tracer in water solution to measure flow in deep oil or gas bearing strata
|  |  |  | (S) Tracer chemical when in a solid blend with polymer to measure flow in deep oil or gas bearing strata
P-17-0436 | 09/27/2017 | 12/26/2017 | Johnson Matthey, Inc | (S) Tracer chemical in a solid proppant bead form used to measure flow in deep oil or gas bearing strata | (S) Benzoic acid, 2-fluoro-4-(trifluoromethyl)-, sodium salt (1:1).
|  |  |  | (S) Tracer chemical used as a tracer in water solution to measure flow in deep oil or gas bearing strata
|  |  |  | (S) Tracer chemical when in a solid blend with polymer to measure flow in deep oil or gas bearing strata
P-17-0437 | 09/27/2017 | 12/26/2017 | Johnson Matthey, Inc | (S) Tracer chemical in a solid proppant bead form used to measure flow in deep oil or gas bearing strata | (S) Benzoic acid, 2-fluoro-6-(trifluoromethyl)-, sodium salt (1:1).
|  |  |  | (S) Tracer chemical used as a tracer in water solution to measure flow in deep oil or gas bearing strata
|  |  |  | (S) Tracer chemical when in a solid blend with polymer to measure flow in deep oil or gas bearing strata
P-17-0438 | 09/27/2017 | 12/26/2017 | Johnson Matthey, Inc | (S) Tracer chemical in a solid proppant bead form used to measure flow in deep oil or gas bearing strata | (S) Benzoic acid, 3-fluoro-5-(trifluoromethyl)-, sodium salt (1:1).
|  |  |  | (S) Tracer chemical used as a tracer in water solution to measure flow in deep oil or gas bearing strata
|  |  |  | (S) Tracer chemical when in a solid blend with polymer to measure flow in deep oil or gas bearing strata
P-17-0439 | 09/27/2017 | 12/26/2017 | Johnson Matthey, Inc | (S) Tracer chemical in a solid proppant bead form used to measure flow in deep oil or gas bearing strata | (S) Benzoic acid, 4-fluoro-3-(trifluoromethyl)-, sodium salt (1:1).
|  |  |  | (S) Tracer chemical used as a tracer in water solution to measure flow in deep oil or gas bearing strata water
|  |  |  | (S) Tracer chemical when in a solid blend with polymer to measure flow in deep oil or gas bearing strata
P-17-0440 | 09/27/2017 | 12/26/2017 | Johnson Matthey, Inc | (S) Tracer chemical in a solid proppant bead form used to measure flow in deep oil or gas bearing strata | (S) Benzoic acid, 4-fluoro-2-(trifluoromethyl)-, sodium salt (1:1).
|  |  |  | (S) Tracer chemical used as a tracer in water solution to measure flow in deep oil or gas bearing strata
|  |  |  | (S) Tracer chemical when in a solid blend with polymer to measure flow in deep oil or gas bearing strata
P-17-0441 | 09/27/2017 | 12/26/2017 | CBI | (G) Monitor well performance | (G) Halogenated sodium benzoate.
P-17-0442 | 09/27/2017 | 12/26/2017 | CBI | (G) Monitor well performance | (G) Halogenated sodium benzoate.
P-17-0443 | 09/27/2017 | 12/26/2017 | CBI | (G) Monitor well performance | (G) Halogenated sodium benzoate.
P-17-0444 | 09/27/2017 | 12/26/2017 | CBI | (G) Monitor well performance | (G) Halogenated sodium benzoate.
P-17-0446 | 09/27/2017 | 12/26/2017 | CBI | (G) Monitor well performance | (G) Halogenated sodium benzoate.
P-17-0447 | 09/27/2017 | 12/26/2017 | CBI | (G) Monitor well performance | (G) Halogenated sodium benzoate.
P-17-0448 | 09/27/2017 | 12/26/2017 | CBI | (G) Monitor well performance | (G) Halogenated sodium benzoate.
P-17-0449 | 09/27/2017 | 12/26/2017 | CBI | (G) Monitor well performance | (G) Halogenated sodium benzoate.
P-17-0450 | 09/28/2017 | 12/27/2017 | CBI | (G) Monitor well performance | (G) Halogenated benzoic acid.

For the 21 NOCs received by EPA during this period, Table 2 provides the following information (to the extent that such information is not claimed as CBI): The EPA case number assigned to the NOC; the date the NOC was received by EPA; the projected date of commencement provided by the submitter in the NOC; and the chemical identity.

Table 2—NOCs Received From September 1, 2017 To September 29, 2017
Case No. | Received date | Commencement notice end date | Chemical
J-16-0024 | 09/27/2017 | 09/18/2017 | (G) Genetically modified trichoderma reesei.
J-17-0009 | 09/27/2017 | 09/27/2017 | (G) Genetically modified microorganism.
P-12-0578 | 09/15/2017 | 11/07/2016 | (G) Vegetable oil fatty acids, reaction products with substituted amine, compds. with substituted polyethylene glycol anhydride ester alkyl ethers.
P-14-0444 | 09/21/2017 | 08/21/2017 | (G) Polyurethane, trimethoxysilyl terminated.
P-14-0580 | 09/15/2017 | 01/17/2017 | (G) Alkenoic acid, polymer with alkyl alkenoate, alkylalkylalkenoate, alkenoic acid and tridecafluoro alkylalkenoate, compounds with alkylaminoalcanol.
P-15-0247 | 09/21/2017 | 09/16/2017 | (G) Methylene diisocyanate polymer with diols and triols.
P-15-0247 | 09/28/2017 | 09/16/2017 | (G) Methylene diisocyanate polymer with diols and triols.
P-15-0431 | 09/25/2017 | 06/02/2017 | (G) Rapeseed oil, polymer with alkyl triol and acid anhydride.
P-16-0123 | 09/07/2017 | 08/15/2017 | (G) Formaldehyde polymers with substituted-carbomonocycle, (tetraalkenyl) derivs.
P-16-0240 | 09/19/2017 | 09/29/2016 | (G) Styrene(ated) copolymer with alkylmethacrylate, hydroxyalkylacrylate and acrylic acid.
P-16-0263 | 09/15/2017 | 08/11/2016 | (G) Alkene polymer with anhydride and imides.
P-16-0281 | 09/15/2017 | 08/12/2016 | (G) Fatty alcohols—dimers, trimmers, polymers.
P-16-0459 | 09/19/2017 | 10/28/2016 | (G) Carbomonocyclic dicarboxylic acid, polymer with alkanedioic acid, substituted heteropolycycle, substituted carbomonocycle, alkyl alkenoate, alkanedioic acid, alkoxylated substituted dicarbomonocycle, alkoxylated substituted dicarbomonocycle, alkenoic acid, oxo alkyl initiated.
P-16-0570 | 09/07/2017 | 08/11/2017 | (S) Carboxylic acids, C6-18 and cb-15-di-, polymers with diethylene glycol, glycerol, oleic acid, phthalic acid and sorbitol.
P-16-0593 | 09/08/2017 | 08/22/2017 | (S) Carboxylic acids, C6-18 and c5-15-di-, polymers with diethylene glycol, glycerol, sorbitol and terephthalic acid.
P-16-0595 | 09/20/2017 | 09/13/2017 | (G) Substituted-(hydroxyalkyl)-alkyl-alkanoic acid, hydroxy-(substitutedalkyl)-alkyl-, polymer with alpha-hydro-omega-hydroxypoly[oxy(alkyl-ethanediyl)] and isocyanato-(isocyanatoalkyl)-multialkylcycloalkane, salt, alkanol-blocked, compds.
P-17-0217 | 09/15/2017 | 09/15/2017 | (S) Coke (coal), secondary pitch.
P-17-0264 | 09/28/2017 | 09/23/2017 | (G) Alkanoic acid, 2-alkyl-, substituted alkyl ester, polymer with alkyl alkenoate, substituted carbomonocycle, substituted alkyl alkenoate and alkyl substituted alkenoate, substituted alkanenitrile-initiated.
P-17-0265 | 09/28/2017 | 09/23/2017 | (G) Alkanoic acid, alkyl-, substituted alkyl ester, polymer with alkyl alkenoate, substituted carbomonocycle, substituted alkyl alkenoate and alkyl substituted alkenoate, substituted alkanenitrile-initiated, polymers with substituted alkanenitrile-initiated, alkanoic acid-alkane substituted acrylates-substituted carbomonocycle polymer, compds. with alkylamino alkanol.
P-17-0293 | 09/28/2017 | 09/28/2017 | (G) Substituted carbomonocycle, polymer with substituted carbonomoncycles, alkyl substituted- alkanediols, alkanediol, alkanedioic acid, and dialkylene glycol.

Authority: 15 U.S.C. 2601 et seq.

Dated: November 14, 2017.
Pamela Myrick,
Director, Information Management Division, Office of Pollution Prevention and Toxics.

[FR Doc. 2017-26088 Filed 12-1-17; 8:45 am]

BILLING CODE 6560-50-P